DEPARTMENT OF HOMELAND SECURITY

Coast Guard

33 CFR Part 165

[Docket No. USCG-2011-0922]

RIN 1625-AA87

Security Zones; 2012 Republican National Convention, Captain of the Port St. Petersburg Zone, Tampa, FL

AGENCY: Coast Guard, DHS.

ACTION: Notice of proposed rulemaking.

SUMMARY: The Coast Guard proposes to establish seven temporary security zones on the waters and adjacent land 20 feet shoreward of the mean high water marks of Garrison Channel, Hillsborough River, Seddon Channel, Sparkman Channel, the unnamed channel north of Davis Islands, Ybor Channel, and Ybor Turning Basin in the vicinity of Tampa, Florida during the 2012 Republican National Convention. The 2012 Republican National Convention will be held at the Tampa Bay Times Forum building and other venues from August 27, 2012 through August 31, 2012. The Department of Homeland Security has designated the 2012 Republican National Convention as a National Special Security Event. The security zones are necessary to protect convention delegates, official parties, dignitaries, the public, and surrounding waterways from terrorist acts, sabotage or other subversive acts, accidents, or other causes of a similar nature.

DATES: Comments and related material must be received by the Coast Guard on or before June 4, 2012. Requests for public meetings must be received by the Coast Guard on or before May 3, 2012.

ADDRESSES: You may submit comments identified by docket number USCG-2011-0922 using any of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this proposed rule, call or email Marine Science Technician First Class Nolan L. Ammons, Sector St. Petersburg Prevention Department, Coast Guard; telephone (813) 228-2191, email D07-SMB-Tampa-WWM@uscg.mil. If you have questions on viewing or submitting material to the docket, call Renee V. Wright, Program Manager, Docket Operations, telephone (202) 366-9826.

SUPPLEMENTARY INFORMATION:

Public Participation and Request for Comments

We encourage members of the public and others who are interested in or affected by this proposal to participate in this rulemaking by submitting comments and related materials. All comments received will be posted without change to http://www.regulations.gov and will include any personal information you have provided.

Submitting Comments

If you submit a comment, please include the docket number for this rulemaking (USCG-2011-0922), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit comments online, go to http://www.regulations.gov, click on the “submit a comment” box, which will then become highlighted in blue. In the “Document Type” drop down menu select “Proposed Rule” and insert “USCG-2011-0922” in the “Keyword” box. Click “Search” then click on the balloon shape in the “Actions” column. Comments submitted by mail or hand delivery must be in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-0922” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. The Coast Guard has an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not anticipate convening public meetings regarding this proposal. You may, however, submit a request for a public meeting on or before May 3, 2012 using one of the four methods specified under ADDRESSES. Please explain why you believe a public meeting would be beneficial. If we determine that a public meeting would aid this rulemaking, a meeting will be convened at a time and place announced in a subsequent notice in the Federal Register.

Basis and Purpose

The legal basis for the proposed rule is the Coast Guard's authority to establish regulated navigation areas and other limited access areas: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

The purpose of this proposed rule is to provide for the safety and security of convention delegates official parties, dignitaries, and the public during the 2012 Republican National Convention.

Discussion of Proposed Rule

From August 27, 2012 through August 30, 2012, the 2012 Republican National Convention will be held in Tampa, Florida. Primary venues for the 2012 Republican National Convention are the Tampa Bay Times Forum building and the Tampa Convention Center, both of which are located adjacent or proximate to Garrison Channel, Hillsborough River, Seddon Channel, Sparkman Channel, the unnamed channel north of Davis Islands, Ybor Channel, and Ybor Turning Basin in Tampa, Florida. Secondary venues and venues hosting convention-related activities will take place in other locations throughout Tampa, Florida on or in close proximity to navigable waters.

The Secretary of the Department of Homeland Security has designated the 2012 Republican National Convention as a National Special Security Event. National Special Security Events are significant events, which, due to their political, economic, social, or religious significance, may render them particularly attractive targets of terrorism or other criminal activity. The Federal government provides support, assistance, and resources to state and local governments to ensure public safety and security during National Special Security Events.

The Coast Guard has conducted threat, vulnerability, and risk analyses relating to the maritime transportation system and 2012 Republican National Convention activities. Threats confronting the 2012 Republican National Convention assume two primary forms: homeland security threats and violent or disruptive public disorder. The 2012 Republican National Convention is expected to draw widespread protests by persons dissatisfied with national and foreign policy and the Republican Party agenda. This politically-oriented event has the potential to attract anarchists and others intent on expressing their opposition through violence and criminal activity. The 2012 Republican National Convention also presents an attractive target for terrorist and extremist organizations.

Considerable law enforcement on land may render maritime approaches an attractive alternative. Tampa has significant critical infrastructure in its port area, which is proximate to the downtown area and the Convention's main venues. The Port of Tampa is an industrial-based port, with significant storage and shipment of hazardous materials.

The Department of Homeland Security Small Vessel Security Strategy sets forth several threat scenarios that must be mitigated in the maritime security planning for the 2012 Republican Convention. These threats include the potential use of a small vessel to: (1) Deliver a weapon of mass destruction; (2) launch a stand-off attack weapon; or (3) deliver an armed assault force. 2012 Republican National Convention maritime security planning anticipates these threats, while minimizing the public impact of security operations.

The proposed security zones and accompanying security measures have been specifically developed to mitigate the threats and vulnerabilities identified in the analysis set forth above. Security measures have been limited to the minimum necessary to mitigate risks associated with the identified threats. The Coast Guard considered establishing a waterside demonstration area. However, due to the proximity of the main venue area, the geography of the area in question, the associated threats to the convention, and the potential to interfere with law enforcement and security operations, the Coast Guard determined that establishing such an area would not be feasible. The Coast Guard expects ample landside demonstration areas to be available.

The Coast Guard, on behalf of the 2012 Republican National Convention Public Safety Committee, has initiated an outreach program to inform maritime stakeholders within Tampa of potential disruptions to normal maritime activities during the convention. On January 27, 2012, outreach efforts to the local community began with a presentation to the Tampa Bay Harbor Safety and Security Committee. Additional meetings were held with businesses that operate in the vicinity of the main venue. On February 1, 2012 and February 29, 2012, public meetings were held. At each of these meetings, the Coast Guard presented: (1) General information on National Special Security Events; (2) an overview of the 2012 Republican National Convention; (3) a description of the organization of the public safety committee and subcommittees established for the convention; (4) a brief discussion of the proposed security zones, along with likely limitations on vessel movements and enhanced security measures; and (5) the threat, vulnerability and risk analysis of the convention from a maritime perspective.

Responses to information presented by the Coast Guard were generally positive and supportive. The majority of questions were requests for additional details, such as exactly when the security zone would be in effect and what size vessels will be allowed to transit the zone or use the docks in the primary venue area. Several people asked questions seeking to clarify the restrictions, such as whether boat owners would be able to access their vessels, or whether commercial traffic would be allowed to operate in Sparkman Channel. There were two questions concerning the sufficiency of planned security measures on the south and east sides of Harbour Island.

The Coast Guard responded to all inquiries by stating that the details of the security zones were still under development and were subject to change. At each meeting, the Coast Guard reminded attendees to review the notice of proposed rulemaking when it is published in the Federal Register, and encouraged attendees to submit comments to the docket if they had concerns or questions.

The proposed rule would establish seven temporary security zones in the Captain of the Port St. Petersburg Zone during the 2012 Republican National Convention in Tampa, Florida. The security zones would be enforced from 12:01 p.m. on August 25, 2012 through 11:59 a.m. on August 31, 2012. The security zones are listed below. All coordinates are North American Datum 1983.

(1) Garrison Channel. All waters of Garrison Channel, including adjacent land 20 feet shoreward of the mean high water mark of Garrison Channel. All persons and vessels would be prohibited from entering or transiting the security zone unless authorized by the Captain of the Port St. Petersburg or a designated representative. Vessels with permanent moorings in the security zone would not be permitted to move during the enforcement period. Vessels remaining in the security zone during the enforcement period would be subject to inspection and examination by Coast Guard and other law enforcement officials. Persons desiring to access their vessels within the security zone would be subject to security screenings.

(2) Hillsborough River. All waters of Hillsborough River, including adjacent land 20 feet shoreward of the mean high water mark of Hillsborough River, south of an imaginary line between the following points: Point 1 in position 27°56′44″ N, 82°27′37″ W; and Point 2 in position 27°56′44″ N, 82°27′33″ W. All persons and vessels would be prohibited from entering or remaining within the security zone unless authorized by the Captain of the Port St. Petersburg or a designated representative.

(3) Seddon Channel. All waters of Seddon Channel, including adjacent land 20 feet shoreward of the mean high water mark of Seddon Channel, north of an imaginary line between the following points: Point 1 in position 27°55′52″ N, 82°27′13″ W; and Point 2 in position 27°55′54″ N, 82°27′08″ W. All persons and vessels would be prohibited from entering or remaining within the security zone unless authorized by the Captain of the Port St. Petersburg or a designated representative.

(4) Sparkman Channel. All waters of Sparkman Channel, including adjacent land 20 feet shoreward of the mean high water mark of Sparkman Channel, north of an imaginary line between the following points: Point 1 in position 27°55′51″ N, 82°26′54″ W; and Point 2 in position 27°55′50″ N, 82°26′45″ W. Recreational vessels would be prohibited from entering or remaining in Sparkman Channel unless authorized by the Captain of the Port St. Petersburg or a designated representative. Commercial vessels would be authorized to enter or transit Sparkman Channel, subject to compliance with security protocols established by the Captain of the Port St. Petersburg, including: (a) Advance notice of intent to transit; (b) inspection and examination of all commercial vessels and persons requesting authorization to transit the security zone (including positive identification checks); and (c) embarkation of law enforcement personnel during authorized security zone transits.

(5) Unnamed Channel North of Davis Islands. All waters of the unnamed channel north of Davis Islands, including adjacent land 20 feet shoreward of the mean high water mark of the unnamed channel north of Davis Islands, east of an imaginary line between the following points: Point 1 in position 27°56′16″ N, 82°27′40″ W; and Point 2 in position 27°56′18″ N, 82°27′43″ W. All persons and vessels would be prohibited from entering or remaining within the security zone unless authorized by the Captain of the Port St. Petersburg or a designated representative.

(6) Ybor Channel. All waters of Ybor Channel, including adjacent land 20 feet shoreward of the mean high water mark of Ybor Channel. Recreational vessels would be prohibited from entering or remaining in Ybor Channel unless authorized by the Captain of the Port St. Petersburg or a designated representative. Commercial vessels would be authorized to enter or transit Ybor Channel, subject to compliance with security protocols established by the Captain of the Port St. Petersburg, including: (a) Advance notice of intent to transit; (b) inspection and examination of all commercial vessels and persons requesting authorization to transit the security zone (including positive identification checks); and (c) embarkation of law enforcement personnel during authorized security zone transits.

(7) Ybor Turning Basin. All waters of Ybor Turning Basin, including adjacent land 20 feet shoreward of the mean high water mark of Ybor Turning Basin. Recreational vessels would be prohibited from entering or remaining in Ybor Turning Basin unless authorized by the Captain of the Port St. Petersburg or a designated representative. Commercial vessels would be authorized to enter or transit Ybor Turning Basin, subject to compliance with security protocols established by the Captain of the Port St. Petersburg, including: (a) Advance notice of intent to transit; (b) inspection and examination of all commercial vessels and persons requesting authorization to transit the security zone (including positive identification checks); and (c) embarkation of law enforcement personnel during authorized security zone transits.

All persons and vessels desiring to enter or remain within the regulated areas may contact the Captain of the Port St. Petersburg by telephone at (727) 824-7524, or a designated representative via VHF radio on channel 16, to request authorization. If authorization to enter or remain within the regulated areas is granted by the Captain of the Port St. Petersburg or a designated representative, all persons and vessels receiving such authorization must comply with the instructions of the Captain of the Port St. Petersburg or a designated representative. Recreational vessels authorized to enter or remain within the regulated areas may be subject to boarding and inspection of the vessel and persons onboard.

A Port Community Information Bulletin (PCIB) will be distributed by Coast Guard Sector St. Petersburg. The PCIB will be available on the Coast Guard internet web portal at http://homeport.uscg.mil. PCIBs are located under the Port Directory tab in the Safety and Security Alert links. The Coast Guard would provide notice of the security zones by Local Notice to Mariners, Broadcast Notice to Mariners, public outreach, and on-scene designated representatives.

Regulatory Analyses

We developed this proposed rule after considering numerous statutes and executive orders related to rulemaking. Below we summarize our analyses based on 13 of these statutes or executive orders.

Regulatory Planning and Review

Executive Orders 13563, Improving Regulation and Regulatory Review, and 12866, Regulatory Planning and Review, direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This proposed rule has not been designated a significant regulatory action under section 3(f) of Executive Order 12866. Accordingly, the Office of Management and Budget has not reviewed this proposed rule under Executive Order 12866.

The economic impact of this proposed rule is not significant for the following reasons: (1) The security zones would be enforced for a total of 144 hours; (2) the security zones would be in a location where commercial vessel traffic is expected to be minimal; (3) commercial vessel traffic would be authorized to transit the security zones to the extent compatible with public safety and security; (4) persons and vessels would be able to operate in the surrounding area adjacent to the security zones during the enforcement period; (5) persons and vessels would be able to enter or remain within the security zones if authorized by the Captain of the Port St. Petersburg or a designated representative; and (6) the Coast Guard would provide advance notification of the security zones to the local community by Local Notice to Mariners, Broadcast Notice to Mariners, and public outreach.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule may affect the following entities, some of which may be small entities: the owners or operators of vessels intending to enter or remain within those portions of Garrison Channel, Hillsborough River, Seddon Channel, Sparkman Channel, unnamed channel north of Davis Islands, Ybor Channel, and Ybor Turning Basin encompassed within the proposed security zones from 12:01 p.m. on August 25, 2012 through 11:59 a.m. on August 31, 2012. For the reasons discussed in the Regulatory Planning and Review section above, this proposed rule would not have a significant economic impact on a substantial number of small entities.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please contact Marine Science Technician First Class Nolan L. Ammons, Sector St. Petersburg Prevention Department, Coast Guard; telephone (813) 228-2191, email D07-SMB-Tampa-WWM@uscg.mil. The Coast Guard will not retaliate against small entities that question or complain about this proposed rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this proposed rule would not result in such an expenditure, we do discuss the effects of this proposed rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and would not create an environmental risk to health or risk to safety that might disproportionately affect children.

Indian Tribal Governments

This proposed rule does not have Tribal implications under Executive Order 13175, Consultation and Coordination with Indian Tribal Governments, because it would not have a substantial direct effect on one or more Indian Tribes, on the relationship between the Federal Government and Indian Tribes, or on the distribution of power and responsibilities between the Federal Government and Indian Tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under ADDRESSES. This proposed rule involves establishing seven temporary security zones, as described in paragraph 34(g) of the Instruction that will be enforced for a total of 144 hours. We invite any comments or information that may lead to the discovery of a significant environmental impact from this proposed rule.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add a temporary § 165.T07-0922 to read as follows:

§ 165.T07-0922 Security Zones; 2012 Republican National Convention, Captain of the Port St. Petersburg Zone, Tampa, FL.

(a) Regulated Areas. The following regulated areas are security zones. All coordinates are North American Datum 1983.

(1) Garrison Channel. All waters of Garrison Channel, including adjacent land 20 feet shoreward of the mean high water mark of Garrison Channel. All persons and vessels are prohibited from entering or transiting the regulated area unless authorized by the Captain of the Port St. Petersburg or a designated representative. Vessels with permanent moorings in the regulated area are not permitted to move during the enforcement period. Vessels remaining in the regulated area during the enforcement period are subject to inspection and examination by Coast Guard and other law enforcement officials. Persons desiring to access their vessels within the regulated area are subject to security screenings.

(2) Hillsborough River. All waters of Hillsborough River, including adjacent land 20 feet shoreward of the mean high water mark of Hillsborough River, south of an imaginary line between the following points: Point 1 in position 27°56′44″ N, 82°27′37″ W; and Point 2 in position 27°56′44″ N, 82°27′33″ W. All persons and vessels are prohibited from entering or remaining within the regulated area unless authorized by the Captain of the Port St. Petersburg or a designated representative.

(3) Seddon Channel. All waters of Seddon Channel, including adjacent land 20 feet shoreward of the mean high water mark of Seddon Channel, north of an imaginary line between the following points: Point 1 in position 27°55′52″ N, 82°27′13″ W; and Point 2 in position 27°55′54″ N, 82°27′08″ W. All persons and vessels are prohibited from entering or remaining within the regulated area unless authorized by the Captain of the Port St. Petersburg or a designated representative.

(4) Sparkman Channel. All waters of Sparkman Channel, including adjacent land 20 feet shoreward of the mean high water mark of Sparkman Channel, north of an imaginary line between the following points: Point 1 in position 27°55′51″ N, 82°26′54″ W; and Point 2 in position 27°55′50″ N, 82°26′45″ W. Recreational vessels are prohibited from entering or remaining in the regulated area unless authorized by the Captain of the Port St. Petersburg or a designated representative. Commercial vessels are authorized to enter or transit the regulated area, subject to compliance with security protocols established by the Captain of the Port St. Petersburg, including: (a) Advance notice of intent to transit; (b) inspection and examination of all commercial vessels and persons requesting authorization to transit the regulated area (including positive identification checks); and (c) embarkation of law enforcement personnel during authorized regulated area transits.

(5) Unnamed Channel North of Davis Islands. All waters of the unnamed channel north of Davis Islands, including adjacent land 20 feet shoreward of the mean high water mark of the unnamed channel north of Davis Islands, east of an imaginary line between the following points: Point 1 in position 27°56′16″ N, 82°27′40″ W; and Point 2 in position 27°56′18″ N, 82°27′43″ W. All persons and vessels are prohibited from entering or remaining within the regulated area unless authorized by the Captain of the Port St. Petersburg or a designated representative.

(6) Ybor Channel. All waters of Ybor Channel, including adjacent land 20 feet shoreward of the mean high water mark of Ybor Channel. Recreational vessels are prohibited from entering or remaining in Ybor Channel unless authorized by the Captain of the Port St. Petersburg or a designated representative. Commercial vessels are authorized to enter or transit Ybor Channel, subject to compliance with security protocols established by the Captain of the Port St. Petersburg, including: (a) Advance notice of intent to transit; (b) inspection and examination of all commercial vessels and persons requesting authorization to transit the regulated area (including positive identification checks); and (c) embarkation of law enforcement personnel during authorized regulated area transits.

(7) Ybor Turning Basin. All waters of Ybor Turning Basin, including adjacent land 20 feet shoreward of the mean high water mark of Ybor Turning Basin. Recreational vessels are prohibited from entering or remaining in Ybor Turning Basin unless authorized by the Captain of the Port St. Petersburg or a designated representative. Commercial vessels are authorized to enter or transit Ybor Turning Basin, subject to compliance with security protocols established by the Captain of the Port St. Petersburg, including: (a) Advance notice of intent to transit; (b) inspection and examination of all commercial vessels and persons requesting authorization to transit the security zone (including positive identification checks); and (c) embarkation of law enforcement personnel during authorized regulated area transits.

(b) Definition. The term “designated representative” means Coast Guard Patrol Commanders, including Coast Guard boat coxswains, petty officers, and other officers operating Coast Guard vessels, and Federal, state, and local officials designated by or assisting the Captain of the Port St. Petersburg in the enforcement of the regulated areas.

(c) Regulations. (1) All persons and vessels desiring to enter or remain within the regulated areas may contact the Captain of the Port St. Petersburg by telephone at (727) 824-7524, or a designated representative via VHF radio on channel 16, to request authorization.

A Port Community Information Bulletin is available on the Coast Guard internet web portal at http://homeport.uscg.mil. Port Community Information Bulletins are located under the Port Directory tab in the Safety and Security Alert links.

(2) If authorization to enter or remain within the regulated areas is granted by the Captain of the Port St. Petersburg or a designated representative, all persons and vessels receiving such authorization must comply with the instructions of the Captain of the Port St. Petersburg or a designated representative. Recreational vessels authorized to enter the regulated areas may be subject to boarding and inspection of the vessel and persons onboard.

(3) The Coast Guard will provide notice of the regulated areas by Local Notice to Mariners, Broadcast Notice to Mariners, public outreach, and on-scene designated representatives.

(d) Effective Date. This rule is effective from 12:01 p.m. on August 25, 2012 through 11:59 a.m. on August 31, 2012.

Dated: March 13, 2012.
S.L. Dickinson,
Captain, U.S. Coast Guard, Captain of the Port St. Petersburg.

[FR Doc. 2012-7921 Filed 4-2-12; 8:45 am]

BILLING CODE 9110-04-P